DEPARTMENT OF EDUCATION

Office of Special Education and Rehabilitative Services; List of Correspondence

AGENCY: Department of Education.

ACTION: List of Correspondence from July 1, 2005 through September 30, 2005.

SUMMARY: The Secretary is publishing the following list pursuant to section 607(d) of the Individuals with Disabilities Education Act, as amended by the Individuals with Disabilities Education Improvement Act of 2004 (IDEA). Under section 607(d) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from July 1, 2005 through September 30, 2005.

Included on the list are those letters that contain interpretations of the requirements of IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate.

Part B—Assistance for Education of all Children With Disabilities

Section 611—Authorization; Allotment; Use of Funds; Authorization of Appropriations

Topic Addressed: State Administration

○ Dear Colleague letter dated July 25, 2005, advising States that the Department is invoking its transition authority under section 303 of IDEA, which terminates on December 3, 2005, to give States more time to ensure that their interagency agreements are current before the new restriction added to section 611(e)(1) of IDEA on use of Part B funds for State administration takes effect.

Section 612—State Eligibility

Topic Addressed: Evaluation

○ Letter dated September 21, 2005 to Texas Commissioner of Education Shirley Neeley, regarding steps that the Department has taken to address educational challenges for displaced students resulting from Hurricane Katrina and advising the Texas Education Agency on how to ensure timely completion of evaluations of children suspected of having a disability in districts enrolling a significant number of displaced students.

○ Letter dated August 9, 2005 to Virgin Islands Educational Consultant Eleanor Hirsh, providing an explanation regarding new requirements relating to (1) pre-referral activities and timeliness of referrals for initial evaluation to determine eligibility for special education and related services; (2) use of evaluations conducted under Part C of IDEA to determine eligibility under Part B of IDEA; and (3) placement options for preschool-aged children with disabilities.

Topic Addressed: Maintenance of State Financial Support

○ Letter dated September 21, 2005 to Louisiana Superintendent of Education Cecil J. Picard, regarding the steps the Department is taking to assist the State and school districts in educating displaced students as a result of Hurricane Katrina and informing the State the Department will waive the State-level maintenance of effort requirement as permitted under section 612(a)(18)(C) of IDEA.

Section 613—Local Educational Agency Eligibility

Topic Addressed: Charter Schools

○ Letter dated September 13, 2005 to Hawaii Department of Education Special Education Director Dr. Paul Ban, regarding the requirements of Part B of IDEA that are applicable to public charter schools under Hawaii's unitary school system.

Section 615—Procedural Safeguards

Topic Addressed: Student Discipline

○ Letter dated July 28, 2005 to Charlotte-Mecklenburg, North Carolina Commissioner Bill James, regarding requirements applicable to disciplining students with disabilities.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

John H. Hager,
Assistant Secretary for Special Education and Rehabilitative Services.

[FR Doc. E5-6578 Filed 11-25-05; 8:45 am]

BILLING CODE 4000-01-P